DEPARTMENT OF COMMERCE

National Oceanic and Atmospheric Administration

RIN 0648-XU04

Pacific Fishery Management Council; Public Meeting

AGENCY: National Marine Fisheries Service (NMFS), National Oceanic and Atmospheric Administration (NOAA), Commerce.

ACTION: Notice of public meeting.

SUMMARY: The Pacific Fishery Management Council (Pacific Council) will convene a joint meeting of the Ecosystem Plan Development Team (EPDT) and Ecosystem Advisory Subpanel (EAS) which is open to the public.

DATES: The meeting will be held on Wednesday, February 10, 2010 and Thursday, February 11, 2010 from 8:30 a.m. to 5 p.m. or until business for each day is completed.

ADDRESSES: The EPDT/EAS meeting will be held at the Sheraton Portland Airport Hotel, Mt. Hood C Room, 8235 NE Airport Way, Portland, OR 97220; telephone: (503) 281-2500.

Council address: Pacific Fishery Management Council, 7700 NE Ambassador Place, Suite 101, Portland, OR 97220-1384.

FOR FURTHER INFORMATION CONTACT: Mike Burner, Staff Officer; telephone: (503) 820-2280.

SUPPLEMENTARY INFORMATION: The purpose of this initial meeting of these advisory bodies is to review Pacific Council guidance and make recommendations on implementing an ecosystem-based management plan that is envisioned to complement, but not replace the Pacific Council's four existing Fishery Management Plans (FMP). The EDPT and the EAS are scheduled to review the Pacific Council record and existing FMPs, inventory ecosystem-related management tools for their applicability to the Council's ecosystem based FMP (E-FMP) process, and review existing ecosystem-based management efforts of other regional fishery management councils. The EPDT/EAS will also begin developing recommendations on the E-FMP's purpose and need, its goals and objectives, its geographic and regulatory scope, and the species that may be included in the E-FMP. The findings and recommendations of the EPDT and the EAS will be summarized and reported to the Pacific Council, tentatively at the April 2010 Pacific Council meeting in Portland, OR.

Although non-emergency issues not contained in the meeting agenda may come before the EPDT and the EAS for discussion, those issues may not be the subject of formal action during this meeting. EPDT and EAS action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Ms. Carolyn Porter at (503) 820-2280 at least 5 days prior to the meeting date.

Dated: January 21, 2010.
William D. Chappell,
Acting Director, Office of Sustainable Fisheries, National Marine Fisheries Service.

[FR Doc. 2010-1539 Filed 1-26-10; 8:45 am]

BILLING CODE 3510-22-S